POSTAL REGULATORY COMMISSION

[Docket No. ACR2007]

Postal Service Oversight

AGENCY: Postal Regulatory Commission.

ACTION: Availability of report.

FOR FURTHER INFORMATION CONTACT: Stephen L. Sharman, General Counsel, at 202-789-6820 or stephen.sharfman@prc.gov.

SUPPLEMENTARY INFORMATION: The Postal Regulatory Commission (Commission) has issued its first Annual Compliance Determination addressing the United States Postal Service's recent financial and service performance. The Commission's determination, dated March 27, 2008, responds to a directive in the Postal Accountability and Enhancement Act (PAEA) of 2006. See 39 U.S.C. 3653. It was prepared after review of the Postal Service's 2007 Annual Compliance Report and supplemental material, evaluation of public comments, and assessment of data and information provided in several technical conferences.

The Commission's report can be accessed via http://www.prc.gov. Related documents can also be found on the Commission's Web site under the “Contents” tab, Docket No. ACR2007.

Dated: March 27, 2008.
Steven W. Williams,
Secretary.

[FR Doc. E8-6701 Filed 3-31-08; 8:45 am]

BILLING CODE 7710-FW-P